DEPARTMENT OF HOMELAND SECURITY

Federal Emergency Management Agency

44 CFR Part 65

Changes in Flood Elevation Determinations

AGENCY: Federal Emergency Management Agency, Emergency Preparedness and Response Directorate, Department of Homeland Security.

ACTION: Final rule.

SUMMARY: Modified Base (1% annual-chance) Flood Elevations (BFEs) are finalized for the communities listed below. These modified elevations will be used to calculate flood insurance premium rates for new buildings and their contents.

EFFECTIVE DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and record keeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
Arkansas:
Washington County, (Case No. 04-06-1740P), (FEMA Docket No. P7640) | City of Fayetteville | November 23, 2004, November 30, 2004, Northwest Arkansas Times | The Honorable Dan Coody, Mayor, City of Fayetteville, 113 W. Mountain, Fayetteville, AR 72701 | November 12, 2004 | 050216
Sebastian, (Case No. 03-06-847P), (FEMA Docket No. P7638) | City of Fort Smith | September 15, 2004, September 22, 2004, Southwest Times Record | The Honorable C. Ray Baker, Jr., Mayor, City of Fort Smith, 4420 Victoria Drive, Fort Smith, AR 72904 | September 27, 2004 | 055013
Pulaski, (Case No. 04-06-1607P), (FEMA Docket No. P7638) | City of Jacksonville | July 14, 2004, July 21, 2004, Jacksonville Patriot | The Honorable Tommy Swaim, Mayor, City of Jacksonville, P.O. Box 126, Jacksonville, AR 72076-0126 | July 27, 2004 | 050180
Pulaski, (Case No. 03-06-2526P), (FEMA Docket No. P7638) | City of Little Rock | August 4, 2004, August 11, 2004, Little Rock Free Press | The Honorable Jim Dailey, Mayor, City of Little Rock, Little Rock City Hall, 500 West Markham, Room 203, Little Rock, AR 72201 | November 10, 2004 | 050181
Pulaski, (Case No. 03-06-697P), (FEMA Docket No. P7638) | City of Little Rock | September 15, 2004, September 22, 2004, Little Rock Free Press | The Honorable Jim Dailey, Mayor, City of Little Rock, Little Rock City Hall, 500 West Markham, Room 203, Little Rock, AR 72201 | December 22, 2004 | 050181
Pope, (Case No. 04-06-853P), (FEMA Docket No. P7638) | City of Russellville | September 3, 2004, September 10, 2004, The Courier | The Honorable Raye Turner, Mayor, City of Russellville, P.O. Box 428, Russellville, AR 72811 | August 11, 2004 | 050178
Illinois:
Kane, (Case No. 03-05-3991P), (FEMA Docket No. P7636) | City of Aurora | March 3, 2004, March 10, 2004, The Beacon News | The Honorable David L. Stover, Mayor, City of Aurora, 44 East Downer Place, Aurora, IL 60507 | February 3, 2004 | 170320
McLean, (Case No. 04-05-0891P), (FEMA Docket No. P7640) | City of Bloomington | November 12, 2004, November 19, 2004, The Pantagraph | The Honorable Judy Markowitz, Mayor, City of Bloomington, 109 East Olive Street, Suite 200, Bloomington, IL 61701 | February 18, 2005 | 170490
Will, (Case No. 03-05-5771P), (FEMA Docket No. P7638) | Village of Bolingbrook | August 20, 2004, August 27, 2004, The Bolingbrook Sun | The Honorable Roger Claar, Mayor, Village of Boliingbrook, 375 West Briarcliff Road, Bolingbrook, IL 60440 | July 27, 2004 | 170812
Cook, (Case No. 03-05-1460P), (FEMA Docket No. P7636) | Village of Burr Ridge | April 7, 2004, April 14, 2004, The Suburban Life | The Honorable Jo Irmen, President, Village of Burr Ridge, Village Hall, 7660 County Line Road, Burr Ridge, IL 60521 | July 14, 2004 | 170071
Cook, (Case No. 03-05-3989P), (FEMA Docket No. P7638) | Unincorporated Areas | June 24, 2004, July 1, 2004, Orland Township Messenger | The Hon. Donald H. Wlodarski, Commissioner, Cook County, 69 West Washington Street, Suite 2830, Chicago, IL 60602 | September 30, 2004 | 170054
Cook, (Case No. 04-05-4062P), (FEMA Docket No. P7640) | Unincorporated Areas | October 13, 2004, October 20, 2004, The Chicago Tribune | The Hon. Donald H. Wlodarski, Commissioner, Cook County, 69 West Washington Street, Suite 2830, Chicago, IL 60602 | October 1, 2004 | 170054
Cook, (Case No. 03-05-5180P), (FEMA Docket No. P7640) | Unincorporated Areas | October 21, 2004, October 28, 2004, Orland Township Messenger | The Hon. Donald H. Wlodarski, Commissioner, Cook County, 69 West Washington Street, Suite 2830, Chicago, IL 60602 | January 27, 2004 | 170054
Will, (Case No. 04-05-0768P), (FEMA Docket No. P7638) | Village of Frankfort | July 22, 2004, July 29, 2004, The Star | The Honorable Raymond Rossi, Mayor, Village of Frankfort, 432 West Nebraska Street, Frankfort, IL 60423 | June 29, 2004 | 170701
Kane, and DeKalb, (Case No. 03-05-3994P), (FEMA Docket No. P7636) | Unincorporated Areas | March 18, 2004, March 25, 2004, The Elburn Herald | The Honorable Michael McCoy, Chairman, Kane County Board, Kane County Government Center, 719 South Batavia Avenue, Bldg. A, Geneva, IL 60134 | June 24, 2004 | 170896
Kane, (Case No. 04-05-2895P), (FEMA Docket No. P7640) | Unincorporated Areas | November 10, 2004, November 17, 2004, Kane County Chronicle | The Honorable Michael McCoy, Chairman, Kane County Board, Kane County Government Center, 719 South Batavia Avenue, Bldg. A, Geneva, IL 60134 | February 16, 2005 | 170896
Kane, and DeKalb, (Case No. 03-05-3994P), (FEMA Docket No. P7636) | Village of Maple Park | March 18, 2004, March 25, 2004, The Elburn Herald | Mr. Mark T. Delany, Village President, Village of Maple Park, P.O. Box 220, Maple Park, IL 60151 | June 24, 2004 | 171018
McHenry, (Case No. 04-05-0758P), (FEMA Docket No. P7638) | City of Marengo | August 24, 2004, August 31, 2004, The Northwest Herald | The Hon. Dennis Hammortree, Mayor, City of Marengo, 132 East Prairie Street, Marengo, IL 60152 | November 30, 2004 | 170482
Kane and Kendall, (Case No. 04-05-0087P), (FEMA Docket No. P7640) | Village of Montgomery | November 17, 2004, November 24, 2004, Aurora Beacon News | The Honorable Marilyn Michelini, President, Village of Montgomery, Village Hall, 1300 South Broadway, Montgomery, IL 60538 | November 8, 2004 | 170328
Cook, (Case No. 03-05-3989P), (FEMA Docket No. P7638) | Village of Orland Park | June 24, 2004, July 1, 2004, Orland Township Messenger | The Hon. Daniel McLaughlin, Mayor, Village of Orland Park, Village Hall, 14700 South Ravinia Avenue, Orland Park, IL 60462 | September 30, 2004 | 170140
Cook, (Case No. 03-05-5180P) (FEMA Docket No. P7640) | Village of Orland Park | October 21, 2004, October 28, 2004, Orland Township Messenger | The Hon. Daniel McLaughlin, Mayor, Village of Orland Park, 14700 S. Ravinia Avenue, Orland Park, IL 60462 | January 27, 2004 | 170140
Will, (Case No. 04-05-0088P) (FEMA Docket No. P7636) | Village of Plainfield | April 7, 2004, April 14, 2004, The Enterprise | The Honorable Richard Rock, Mayor, Village of Plainfield, 24000 West Lockport Street, Plainfield, IL 60544 | March 5, 2004 | 170771
Will, (Case No. 04-05-1634P), (FEMA Docket No. P7638) | Village of Plainfield | June 23, 2004, June 30, 2004, The Enterprise | The Honorable Richard Rock, Mayor, Village of Plainfield, 24000 West Lockport Street, Plainfield, IL 60544 | July 12, 2004 | 170771
Will, (Case No. 04-05-0769P), (FEMA Docket No. P7638) | Village of Plainfield | September 22, 2004, September 29, 2004, The Enterprise | The Honorable Richard Rock, Mayor, Village of Plainfield, 24000 West Lockport Street, Plainfield, IL 60544 | September 9, 2004 | 170771
Will, (Case No. 03-05-1850P) (FEMA Docket No. P7638) | Village of Shorewood | September 14, 2004, September 21, 2004, The Herald News | The Honorable Richard Chapman, President, Village of Shorewood, 903 West Jefferson Street, Shorewood, IL 60431 | August 27, 2004 | 170712
Cook, (Case No. 03-05-1457P), (FEMA Docket No. P7638) | Village of Tinley Park | July 22, 2004, July 29, 2004, The Courier News | The Honorable Edward Zabrocki, Mayor, Village of Tinley Park, 16250 South Oak Park Avenue, Tinley Park, IL 60477 | July 30, 2004 | 170169
Will, (Case No. 04-05-1634P), (FEMA Docket No. P7638) | Unincorporated Areas | June 23, 2004, June 30, 2004, The Enterprise | The Honorable Joseph L. Mikan, Executive, Will County, Will County Office Building 302 North Chicago Street, Joliet, IL 60432 | July 12, 2004 | 170695
Will, (Case No. 03-05-1850P), (FEMA Docket No. P7638) | Unincorporated Areas | September 14, 2004, September 21, 2004, The Herald News | The Honorable Joseph L. Mikan, Executive, Will County, Will County Office Building 302 North Chicago Street, Joliet, IL 60432 | August 27, 2004 | 170695
Will, (Case No. 04-05-3541P), (FEMA Docket No. P7640) | Unincorporated Areas | November 12, 2004, November 19, 2004, The Herald News | The Honorable Joseph L. Mikan, Will County Executive, Will County Office Building, 302 North Chicago Street, Joliet, IL 60432 | October 19, 2004 | 170695
Indiana:
Hamilton, (Case No. 04-05-1640P), (FEMA Docket No. P7636) | City of Carmel | May 4, 2004, May 11, 2004, The Noblesville Ledger | The Honorable James Brainard, Mayor, City of Carmel, One Civic Square, Carmel, IN 46032 | August 10, 2004 | 180081
Hamilton, (Case No. 03-05-5182P), (FEMA Docket No. P7636) | Town of Fishers | April 2, 2004, April 9, 2004 The Noblesville Ledger | Mr. Michael J. Booth, Manager, Town of Fishers, Fishers Town Hall, One Municipal Drive, Fishers, IN 46038 | July 9, 2004 | 180423
Johnson, (Case No. 04-05-0097P), (FEMA Docket No. P7638) | City of Greenwood | August 4, 2004, August 11, 2004, The Daily Journal | The Hon. Charles Henderson, Mayor, City of Greenwood, 2 North Madison Avenue, Greenwood, IN 46142 | July 12, 2004 | 180115
Marion, (Case No. 04-05-0895P), (FEMA Docket No. P7640) | City of Indianapolis | November 12, 2004, November 19, 2004, The Indianapolis Star | The Honorable Bart Peterson, Mayor, City of Indianapolis, 2501 City-County Building, 200 E. Washington Street, Indianapolis, IN 46204 | February 18, 2005 | 180159
Marion, (Case No. 03-05-3389P), (FEMA Docket No. P7638) | City of Indianapolis | August 20, 2004, August 27, 2004, The Indianapolis Star | The Honorable Bart Peterson, Mayor, City of Indianapolis, 2501 City-County Building, 200 E. Washington Street, Indianapolis, IN 46204 | November 26, 2004 | 180159
Iowa:
Story, (Case No. 03-07-892P), (FEMA Docket No. P7636) | City of Ames | April 8, 2004, April 15, 2004, The Tribune | The Honorable Ted Tedesco, Mayor, City of Ames, 515 Clark Avenue, Ames, IA 50010 | July 15, 2004 | 190254
Scott, (Case No. 03-07-888P), (FEMA Docket No. P7636) | City of Davenport | March 24, 2004, March 31, 2004, Quad City Times | The Hon. Charles W. Brooke, Mayor, City of Davenport, City Council Office, 226 West 4th Street, Davenport, IA 52801 | June 30, 2004 | 190242
Johnson, (Case No. 04-07-047P), (FEMA Docket No. P7640) | City of North Liberty | October 20, 2004, October 27, 2004, North Liberty Leader | The Honorable Clair Mekota, Mayor, City of North Liberty, 35 Vixen Lane, North Liberty, IA 52317 | October 5, 2004 | 190630
Story, (Case No. 04-07-046P), (FEMA Docket No. P7636) | Unincorporated Areas | March 25, 2004, April 1, 2004, The Tribune | The Honorable Jane Halliburton, Story County, Board Commissioner, 900 6th Street, Nevada, IA 50201 | July 1, 2004 | 190907
Kansas:
Johnson, (Case No. 04-07-026P), (FEMA Docket No. P7636) | City of Overland Park | May 13, 2004, May 20, 2004, The Sun Newspapers | The Honorable Ed Eilert, Mayor, City of Overland Park, City Hall, 8500 Santa Fe Drive, Overland Park, KS 66212 | April 21, 2004 | 200174
Saline, (Case No. 04-07-037P), (FEMA Docket No. P7638) | City of Salina | June 23, 2004, June 30, 2004, The Salina Journal | The Honorable Allan E. Jilka, Mayor, City of Salina, 300 West Ash Street, Salina, KS 67402 | September 29, 2004 | 200319
Saline, (Case No. 04-07-037P), (FEMA Docket No. P7638) | Unincorporated Areas | June 23, 2004, June 30, 2004, The Salina Journal | The Honorable Sheri Barragree, Chairman, Saline County Commissioners, 300 West Ash Street, Room 211, Salina, KS 67401 | September 29, 2004 | 200316
Sedgwick, (Case No. 03-07-898P), (FEMA Docket No. P7636) | City of Wichita | March 10, 2004, March 17, 2004, The Wichita Eagle | The Honorable Carlos Mayans, Mayor, City of Wichita, City Hall—1st Floor, 455 North Main Street, Wichita, KS 67202 | February 12, 2004 | 200328
Sedgwick, (Case No. 03-07-890P), (FEMA Docket No. P7636) | City of Wichita | April 9, 2004, April 16, 2004, The Wichita Eagle | The Honorable Carlos Mayans, Mayor, City of Wichita, City Hall—1st Floor, 455 North Main Street, Wichita, KS 67202 | April 26, 2004 | 200328
Sedgwick, (Case No. 03-07-1283P), (FEMA Docket No. P7636) | City of Wichita | April 22, 2004, April 29, 2004, The Wichita Eagle | The Honorable Carlos Mayans, Mayor, City of Wichita, City Hall—1st Floor, 455 North Main Street, Wichita, KS 67202 | July 29, 2004 | 200328
Sedgwick, (Case No. 03-07-878P), (FEMA Docket No. P7638) | City of Wichita | June 23, 2004, June 30, 2004, The Wichita Eagle | The Honorable Carlos Mayans, Mayor, City of Wichita, City Hall—1st Floor, 455 North Main Street, Wichita, KS 67202 | June 17, 2004 | 200328
Maryland: Montgomery, (Case No. 03-03-133P), (FEMA Docket No. P7638) | City of Rockville | August 11, 2004, August 18, 2004, The Montgomery Journal | The Honorable Larry Giammo, Mayor, City of Rockville, Rockville City Hall, 111 Maryland Avenue, Rockville, MD 20850 | November 17, 2004 | 240051
Michigan:
Macomb, (Case No. 04-05-0884P), (FEMA Docket No. P7636) | Charter Township of Clinton | March 23, 2004, March 30, 2004, The Macomb Daily | Mr. Robert J. Cannon, Township Supervisor, 40700 Romeo Plank Road, Clinton Township, MI 48038 | February 19, 2004 | 260121
Genesee, (Case No. 03-05-2569P), (FEMA Docket No. P7638) | City of Grand Blanc | July 22, 2004, July 29, 2004, The Flint Journal | Mr. Randall Byrne, City Manager, City of Grand Blanc, 203 East Grand Blanc Road, Grand Blanc, MI 48439 | June 29, 2004 | 260255
Oakland, (Case No. 03-05-5184P), (FEMA Docket No. P7638) | City of Novi | July 15, 2004, July 22, 2004, The Novi News | The Honorable Lou Casordas, Mayor, City of Novi, 45175 West Ten Mile Road, Novi, MI 48375 | August 2, 2004 | 260175
Minnesota:
Anoka, (Case No. 03-05-3380P), (FEMA Docket No. P7638) | City of Blaine | August 13, 2004, August 20, 2004, Blaine-Spring Lake Park Life | The Honorable Tom Ryan, Mayor, City of Blaine, 12147 Radisson Road NE., Blaine, MN 55449 | July 26, 2004 | 270007
Isanti, (Case No. 03-05-3978P), (FEMA Docket No. P7638) | Unincorporated Areas | July 7, 2004, July 14, 2004, Isanti County News | The Honorable George Larson, Chairman, Isanti County, Board of Commissioners, Isanti County Courthouse, 555 18th Avenue, SW., Cambridge, MN 55008 | July 21, 2004 | 270197
Olmsted, (Case No. 03-05-3988P), (FEMA Docket No. P7636) | Unincorporated Areas | March 23, 2004, March 30, 2004, The Post-Bulletin | Mr. Richard Devin, Olmsted County Administrator, 151 4th Street SE., Rochester, MN 55904 | February 23, 2004 | 270626
Olmsted, (Case No. 03-05-3988P), (FEMA Docket No. P7636) | City of Rochester | March 23, 2004, March 30, 2004, The Post-Bulletin | The Honorable Ardell Brede, Mayor, City of Rochester, City Hall, Room 281, 201 4th Street, SE., Rochester, MN 55904 | February 23, 2004 | 275246
Winona, (Case No. 04-05-0100P), (FEMA Docket No. P7636) | City of Winona | March 24, 2004, March 31, 2004, Winona Daily News | The Honorable Jerry Miller, Mayor, City of Winona, 207 Lafayette Street, Winona, MN 55987 | February 5, 2004 | 275250
Missouri:
Clay, (Case No. 02-07-552P), (FEMA Docket No. P7638) | Village of Glenaire | July 21, 2004, July 28, 2004, The Liberty Tribune | The Honorable Bryan Smith, Mayor, Village of Glenaire, P.O. Box 766, Glenaire, MO 64068 | October 27, 2004 | 290092
Jefferson, (Case No. 04-07-035P), (FEMA Docket No. P7638) | Unincorporated Areas | June 23, 2004, June 30, 2004, Jefferson County Journal | The Honorable Mark Mertens, Presiding Commissioner, Jefferson County Courthouse, P.O. Box 100, Hillsboro, MO 63050 | September 29, 2004 | 290808
Clay, (Case No. 02-07-552P), (FEMA Docket No. P7638) | City of Liberty | July 21, 2004, July 28, 2004, The Liberty Tribune | The Hon. Stephen Hawkins, Mayor, City of Liberty, 611 Lancelot Drive, Liberty, MO 64069 | October 27, 2004 | 290096
Greene, (Case No. 04-07-038P), (FEMA Docket No. P7636) | City of Republic | May 12, 2004, May 19, 2004, The Republic Monitor | The Honorable Keith D. Miller, Mayor, City of Republic, 213 North Main Street, Republic, MO 65738 | April 19, 2004 | 290148
Nebraska:
Sarpy, (Case No. 02-07-551P), (FEMA Docket No. P7636) | City of Bellevue | March 24, 2004, March 31, 2004, The Bellevue Leader | The Honorable Jerry Ryan, Mayor, City of Bellevue, 210 West Mission Avenue, Bellevue, NE 68005 | July 1, 2004 | 310191
Sarpy, (Case No. 02-07-551P), (FEMA Docket No. P7636) | City of La Vista | March 25, 2004, April 1, 2004, The Papillion Times | The Hon. Harold Anderson, Mayor, City of La Vista, 8116 Park View Boulevard, La Vista, NE 68128 | July 1, 2004 | 310192
Sarpy, (Case No. 02-07-551P), (FEMA Docket No. P7636) | City of Papillion | March 25, 2004, April 1, 2004, The Papillion Times | The Honorable James E. Blinn, Mayor, City of Papillion, 122 East Third Street, Papillion, NE 68046 | July 1, 2004 | 315275
New Mexico:
Bernalillo, (Case No. 03-06-1003P), (FEMA Docket No. P7636) | City of Albuquerque | March 25, 2004, April 1, 2004, Albuquerque Journal | The Honorable Martin Chavez Mayor, City of Albuquerque, P.O. Box 1293, Albuquerque, NM 87103 | March 3, 2004 | 350002
Bernalillo, (Case No. 04-06-1193P), (FEMA Docket No. P7638) | City of Albuquerque | July 22, 2004, July 29, 2004, Albuquerque Journal | The Honorable Martin Chavez, Mayor, City of Albuquerque, P.O. Box 1293, Albuquerque, NM 87103 | July 9, 2004 | 350002
Sandoval, (Case No. 03-06-681P), (FEMA Docket No. P7638) | Town of Bernalillo | June 17, 2004, June 24, 2004, Albuquerque Journal | The Honorable Charles Aguilar, Mayor, Town of Bernalillo, P.O. Box 638, Bernalillo, NM 87004 | June 4, 2004 | 350056
Bernalillo, (Case No. 04-06-1193P), (FEMA Docket No. P7638) | Unincorporated Areas | July 22, 2004, July 29, 2004, Albuquerque Journal | The Hon. Tom Rutherford, Chairman, Bernalillo County, Commission, One Civic Plaza NW., Albuquerque, NM 87102 | July 9, 2004 | 350001
Bernalillo, (Case No. 04-06-659P), (FEMA Docket No. P7636) | Unincorporated Areas | March 22, 2004, March 29, 2004, Albuquerque Journal | The Hon. Tom Rutherford, Chairman, Bernalillo County, Commission, One Civic Plaza NW., Albuquerque, NM 87102 | February 27, 2004 | 350001
Dona Ana, (Case No. 04-06-234P), (FEMA Docket No. P7636) | City of Las Cruces | March 23, 2004, March 30, 2004, Las Cruces Sun News | The Hon. William M. Mattiace, Mayor, City of Las Cruces, P.O. Box 20000, Las Cruces, NM 88004 | February 18, 2004 | 355332
Oklahoma: Cleveland, (Case No. 04-06-1915P), (FEMA Docket No. P7640) | City of Moore | November 23, 2004, November 30, 2004, The Moore American | The Honorable Glenn Lewis, Mayor, City of Moore, 301 North Broadway, Moore, OK 73160 | November 9, 2004 | 400044
New Mexico:
Torrance County, (Case No. 04-06-674P), (FEMA Docket No. P7640) | City of Moriarty | October 14, 2004, October 21, 2004, Mountain View Telegraph | The Hon. Adan M. Encinias, Mayor, City of Moriarty, P.O. Drawer 130, Moriarty, NM 87035 | January 20, 2005 | 350083
Sandoval, (Case No. 03-06-681P), (FEMA Docket No. P7638) | City of Rio Rancho | June 17, 2004, June 24, 2004, The Observer | The Honorable Jim Owen, Mayor, City of Rio Rancho, 3900 Southern Boulevard, Rio Rancho, NM 87124 | June 4, 2004 | 350146
Ohio:
Greene, (Case No. 03-05-3977P), (FEMA Docket No. P7640) | City of Beaver Creek | October 22, 2004, October 29, 2004, Beavercreek News-Current | The Honorable Robert Glaser, Mayor, City of Beaver Creek, 1368 Research Park Drive, Beavercreek, OH 45432 | January 28, 2005 | 390876
Butler, (Case No. 03-05-5177P), (FEMA Docket No. P7640) | Unincorporated Areas | October 21, 2004, October 28, 2004 The Journal-News | The Hon. Charles R. Furmon, President, Butler County, Board of Commissioners, 315 High Street, 4th Floor, Government Services Center, Hamilton, OH 45011 | January 27, 2004 | 390037
Fairfield, (Case No. 03-05-5190P), (FEMA Docket No. P7636) | Unincorporated Areas | April 7, 2004, April 14, 2004, Lancaster Eagle-Gazette | The Honorable Jon Myers, Fairfield County, Board of Commissioners, 210 East Main Street, Room 301, Lancaster, OH 43130 | April 5, 2004 | 390158
Greene, (Case No. 03-05-3977P), (FEMA Docket No. P7640) | Unincorporated Areas | October 22, 2004, October 29, 2004, Xenia Daily Gazette | The Honorable Jeff Gilbert, Chairman, Greene County Board, County Courthouse, 519 North Main Street, Carrollton, OH 62016 | January 28, 2005 | 390193
Summit, (Case No. 04-05-0770P), (FEMA Docket No. P7640) | Village of Hudson | October 20, 2004, October 27, 2004, Hudson Hub-Times | The Honorable William Currin, Mayor, Village of Hudson, 27 East Main Street, Hudson, OH 44236-3099 | January 26, 2005 | 390660
Licking, (Case No. 04-05-0765P), (FEMA Docket No. P7638) | Unincorporated Areas | July 19, 2004, July 26, 2004, The Advocate | The Hon. Albert Ashbrook, President, Licking County, Board of Commissioners, 20 South Second Street, Newark, OH 43055 | August 2, 2004 | 390328
Lucas, (Case No. 04-05-4066P), (FEMA Docket No. P7640) | Unincorporated Areas | October 19, 2004, October 26, 2004, Farmland News | The Honorable Harry Barlos, President, Lucas County, Board of Commissioners, One Government Center, Suite 800, Toledo, OH 43604 | September 30, 2004 | 390539
Shelby, (Case No. 04-05-2336P), (FEMA Docket No. P7638) | Unincorporated Areas | August 12, 2004, August 19, 2004, The Sidney Daily News | Mr. Larry Klainhans, Chairman, Shelby County, Board of Commissioners, 129 East Court Street, Suite 100, Sidney, OH 45365 | July 22, 2004 | 390503
Oklahoma:
Mayes, (Case No. 04-06-575P), (FEMA Docket No. P7638) | Unincorporated Areas | August 3, 2004, August 10, 2004, The Daily Times | The Hon. Jim Montgomery, Chairman, Mayes County, Board of Commissioners, P.O. Box 95, County Courthouse, Pryor, OK 74362-0095 | July 8, 2004 | 400458
Oklahoma, (Case No. 04-06-035P), (FEMA Docket No. P7636) | City of Midwest City | March 25, 2004, April 1, 2004, The Midwest City Sun | The Honorable Eddie Reed, Mayor, City of Midwest City, P.O. Box 10570, Midwest City, OK 73140 | March 2, 2004 | 400405
Tulsa, (Case No. 04-06-1737P), (FEMA Docket No. P7638) | City of Owasso | August 12, 2004, August 19, 2004 Owasso Reporter | The Honorable Susan Kimball, Mayor, City of Owasso, P.O. Box 180, Owasso, OK 74055 | November 18, 2004 | 400210
Payne, (Case No. 03-06-840P), (FEMA Docket No. P7638) | Unincorporated Areas | July 21, 2004, July 28, 2004, The News Press | The Honorable Gloria Hesser, Payne County Commissioner, 2600 S. Main Street, Suite C, Stillwater, OK 74074 | October 27, 2004 | 400493
Payne, (Case No. 03-06-840P), (FEMA Docket No. P7638) | City of Stillwater | July 21, 2004, July 28, 2004, The News Press | The Honorable Bud Lacy, Mayor, City of Stillwater, P.O. Box 1449, Stillwater, OK 74076 | October 27, 2004 | 400493
Tulsa, (Case No. 04-06-552P), (FEMA Docket No. P7636) | City of Tulsa | March 18, 2004, March 25, 2004, Tulsa World | The Honorable Bill LaFortune, Mayor, City of Tulsa, City Hall, 200 Civic Center, Tulsa, OK 74103 | February 12, 2004 | 405381
Tulsa, (Case No. 03-06-1946P), (FEMA Docket No. P7638) | City of Tulsa, | August 18, 2004, August 25, 2004, Tulsa World | The Honorable Bill LaFortune, Mayor, City of Tulsa, City Hall, 200 Civic Center, Tulsa, OK 74103 | November 24, 2004 | 405381
Texas:
Taylor and Jones, (Case No. 03-06-2669P), (FEMA Docket No. P7636) | City of Abilene | May 4, 2004, May 11, 2004, The Abilene Reporter-News | The Honorable Grady Barr, Mayor, City of Abilene, P.O. Box 60, Abilene, TX 79604 | August 10, 2004 | 485450
Parker, (Case No. 03-06-1950P), (FEMA Docket No. P7636) | City of Aledo | March 3, 2004, March 10, 2004, The Weatherford Democrat | The Honorable Sue Langley, Mayor, City of Aledo, 200 Old Annetta Road, Aledo, TX 76008 | June 9, 2004 | 481659
Brazoria, (Case No. 03-06-2336P), (FEMA Docket No. P7638) | City of Angleton | June 30, 2004, July 7, 2004, The Facts | The Hon. L.M. Sebesta, Jr., Mayor, City of Angleton, 2372 East Highway 35, Angleton, TX 77515 | October 6, 2004 | 480064
Tarrant, (Case No. 04-06-1903P), (FEMA Docket No. P7640) | City of Arlington | November 12, 2004, November 19, 2004, Northeast Tarrant County Morning News | The Hon. Dr. Robert Cluck, Mayor, City of Arlington, 101 W. Abram Street, Arlington, TX 76004-0231 | October 29, 2004 | 485454
Tarrant, (Case No. 03-06-2875P), (FEMA Docket No. P7638) | City of Bedford | August 24, 2004, August 31, 2004, The Star Telegram | The Honorable R. D. Hurt, Mayor, City of Bedford, 200 Forest Ridge Drive, Bedford, TX 76021 | August 27, 2004 | 480585
Brazoria, (Case No. 03-06-2336P), (FEMA Docket No. P7638) | Unincorporated Areas | June 30, 2004, July 7, 2004, The Facts | The Honorable John Willy, Judge, Brazoria County, 111 East Locust Street, Angleton, TX 77515 | October 6, 2004 | 485458
Brazos, (Case No. 04-06-1025P), (FEMA Docket No. P7640) | City of Bryan | October 5, 2004, October 12, 2004, The Eagle | The Honorable Ernie Wentrcek, Mayor, City of Bryan, P.O. Box 1000, Bryan, TX 77805 | January 11, 2005 | 480082
Dallas, (Case No. 03-06-2532P), (FEMA Docket No. P7636) | City of Carrollton | April 7, 2004, April 14, 2004, The Carrollton Leader | The Honorable Mark Stokes, Mayor, City of Carrollton, 1945 East Jackson Road, Carrollton, TX 75006 | March 23, 2004 | 480167
Dallas, (Case No. 04-06-228P), (FEMA Docket No. P7638) | City of Carrollton | July 28, 2004, August 4, 2004, The Carrollton Leader | The Honorable Mark Stokes, Mayor, City of Carrollton, 1945 East Jackson Road, Carrollton, TX 75006 | July 15, 2004 | 480167
Tarrant, (Case No. 04-06-383P), (FEMA Docket No. P7634) | City of Colleyville | January 29, 2004, February 5, 2004, The Star Telegram | The Honorable Joe Hocutt, Mayor, City of Colleyville, 5400 Bransford Road Colleyville, TX 76034 | May 6, 2004 | 480590
Tarrant, (Case No. 03-06-1204P), (FEMA Docket No. P7638) | City of Colleyville | September 2, 2004, September 9, 2004, Northeast Tarrant County Morning News | The Honorable Joe Hocutt, Mayor, City of Colleyville, 5400 Bransford Road, Colleyville, TX 76034-0185 | December 9, 2004 | 480590
Collin, (Case No. 04-06-1470P), (FEMA Docket No. P7640) | Unincorporated Areas | October 20, 2004, October 27, 2004, Plano Star Courier | The Honorable Ron Harris, Judge, Collin County, 210 South McDonald Street Suite 626 Wylie, TX 75098 | January 26, 2005 | 480130
Comal, (Case No. 03-06-1394P), (FEMA Docket No. P7636) | Unincorporated Areas | April 28, 2004, May 5, 2004 | The Honorable Danny Scheel, Judge, Comal County, Comal County Beacon, 199 Main Plaza, New Braunfels, TX 78130 | August 4, 2004 | 485463
Comal, (Case No. 04-06-127P), (FEMA Docket No. P7638) | Unincorporated Areas | June 23, 2004, June 30, 2004, Comal County Beacon | The Honorable Danny Scheel, Judge, Comal County, 199 Main Plaza, New Braunfels, TX 78130 | June 4, 2004 | 485463
Dallas, (Case No. 03-06-1942P), (FEMA Docket no. P7638) | City of Dallas | August 24, 2004, August 31, 2004, Dallas Morning News | The Honorable Laura Miller, Mayor, City of Dallas, City Hall, 1500 Mariall Street, Room 5EN, Dallas, TX 75201-6390 | November 30, 2004 | 480171
Denton, (Case No. 04-06-664P), (FEMA Docket No. P7638) | City of Denton | July 21, 2004, July 28, 2004, Denton Record Chronicle | The Honorable Euline Brock, Mayor, City of Denton, 215 East McKinney Street, Denton, TX 76201 | June 29, 2004 | 480194
Denton, (Case No. 04-06-1464), (FEMA Docket No. P7640) | Town of Double Oak | November 23, 2004, November 30, 2004, Denton Record Chronicle | The Honorable Richard Cook, Mayor, Town of Double Oak, 320 Waketon Road, Double Oak, TX 75077 | March 1, 2005 | 481516
El Paso, (Case No. 04-06-1606P), (FEMA Docket No. P7640) | City of El Paso | November 12, 2004, November 19, 2004, El Paso Times | The Honorable Joe Wardy, Mayor, City of El Paso, 2 Civic Center Plaza, El Paso, TX 79901-1196 | October 29, 2004 | 480214
Tarrant, (Case No. 04-06-875P), (FEMA Docket NO. P7638) | City of Euless | July 1, 2004, July 8, 2004, The Star Telegram | The Honorable Mary Lib Saleh, Mayor, City of Euless, 201 N. Ector Drive, Building B, Euless, TX 76039 | June 4, 2004 | 480593
Denton, (Case No. 03-06-2331P), (FEMA Docket No. P7636) | Town of Flower Mound | March 3, 2004, March 10, 2004, Flower Mound Leader | The Honorable Lori DeLuca, Mayor, Town of Flower Mound, 2121 Cross Timbers Road, Flower Mound, TX 75028 | June 9, 2004 | 480777
Fort Bend, (Case No. 03-06-2671P), (FEMA Docket No. P7638) | Unincorporated Areas | September 1, 2004, September 8, 2004, Fort Bend Star | The Honorable Robert Herbert, Judge, Fort Bend County, 301 Jackson Street, Richmond, TX 77469 | December 9, 2004 | 480228
Fort Bend, (Case No. 04-06-2155P) (FEMA Docket No. P7640) | City of Missouri City | October 21, 2004, October 28, 2004, Fort Bend Mirro | The Honorable Allen Owen, Mayor, City of Missouri City, 1522 Texas Parkway, Missouri City, TX 77489 | January 27, 2005 | 480304
Fort Bend, (Case No. 04-06-2155P), (FEMA Docket No. P7640) | Unincorporated Areas | October 20, 2004, October 27, 2004, Fort Bend Star | The Honorable Robert Herbert, Judge, Fort Bend County, 301 Jackson Street, Richmond, TX 77469 | January 27, 2005 | 480228
Tarrant, (Case No. 03-06-2551P), (FEMA Docket No. P7636) | City of Fort Worth | March 3, 2004, March 10, 2004, The Star Telegram | The Hon. Michael J. Moncrief, Mayor, City of Fort Worth, 1000 Throckmorton Street, Fort Worth, TX 76102 | March 12, 2004 | 480596
Tarrant, (Case No. 04-06-230P) (FEMA Docket No. P7636) | City of Fort Worth | April 13, 204, April 20, 2004, The Star Telegram | The Hon. Michael J. Moncrief, Mayor, City of Fort Worth, 1000 Throckmorton Street, Fort Worth, TX 76102 | July 20, 2004 | 480596
Tarrant, (Case No. 03-06-2049P) (FEMA Docket No. P7636) | City of Fort Worth | April 22, 2004, April 29, 2004, The Star Telegram | The Hon. Michael J. Moncrief, Mayor, City of Fort Worth, 1000 Throckmorton Street, Fort Worth, TX 76102 | July 30, 2004 | 480596
Tarrant, (Case No. 04-06-864P) (FEMA Docket No. P7638) | City of Fort Worth | July 14, 2004, July 21, 2004, The Star Telegram | The Hon. Michael J. Moncrief, Mayor, City of Fort Worth, 1000 Throckmorton Street, Fort Worth, TX 76102 | June 23, 2004 | 480596
Tarrant, (Case No. 03-06-2546P) (FEMA Docket No. P7638) | City of Fort Worth | June 10, 2004, June 17, 2004, The Star Telegram | The Hon. Michael J. Moncrief, Mayor, City of Fort Worth, 1000 Throckmorton Street, Fort Worth, TX 76102 | May 14, 2004 | 480596
Tarrant, (Case No. 03-06-2694P) (FEMA Docket No. P7638) | City of Fort Worth | June 30, 2004, July 7, 2004 The Star Telegram | The Hon. Michael J. Moncrief, Mayor, City of Fort Worth, 1000 Throckmorton Street, Fort Worth, TX 76102 | October 6, 2004 | 480596
Tarrant, (Case No. 04-06-038P) (FEMA Docket No. P7638) | City of Fort Worth | August 18, 2004, August 25, 2004, The Star Telegram | The Hon. Michael J. Moncrief, Mayor, City of Fort Worth, 1000 Throckmorton Street, Fort Worth, TX 76102 | July 26, 2004 | 480596
Tarrant, (Case No. 04-06-1188P) (FEMA Docket No. P7638) | City of Fort Worth | September 1, 2004, September 8, 2004, The Star Telegram | The Hon. Michael J. Moncrief, Mayor, City of Fort Worth, 1000 Throckmorton Street, Fort Worth, TX 76102 | December 8, 2004 | 480596
Collin, (Case No. 04-06-1741P) (FEMA Docket No. P764) | City of Fort Worth | October 6, 2004, October 13, 2004, The Frisco Enterprise | The Honorable Mike Simpson, Mayor, City of Frisco, 6891 Main Street, Frisco, TX 75034 | July 21, 2004 | 480134
Dallas, (Case No. 03-06-2537P) (FEMA Docket No. P7636) | City of Garland | June 3, 2004, June 10, 2004, Garland Morning News | The Honorable Bob Day, Mayor, City of Garland, 200 N. Fifth Street, Garland, TX 75040 | June 10, 2004 | 485471
Harris, (Case No. 03-06-1393P) (FEMA Docket No. P7638) | Unincorporated Areas | August 17, 2004, August 24, 2004 The Houston Chronicle | The Honorable Robert Eckels, Judge, Harris County, 1001 Preston, Suite 911, Houston, TX 77002 | July 23, 2004 | 480287
Hays, (Case No. 03-06-1940P), (FEMA Docket No. P7636) | Unincorporated Areas | April 7, 2004, April 14, 2004, San Marcos Daily Record | The Honorable Jim Powers, Judge Hays County, 111 E. San Antonio Street Suite 300, San Marcos, TX 78666 | March 23, 2004 | 480321
Harris, (Case No. 03-06-2671P) (FEMA Docket No. P7638) | City of Houston | September 2, 2004, September 9, 2004, The Houston Chronicle | The Honorable Bill White, Mayor, City of Houston, P.O. Box 1562, Houston, TX 77251 | December 9, 2004 | 480296
Tarrant, (Case No. 04-06-657P) (FEMA Docket No. P7636) | City of Hurst | April 7, 2004, April 14, 2004, The Star Telegram | The Honorable William Souder, Mayor, City of Hurst, 1505 Precinct Line Road, Hurst, TX 76054 | March 24, 2004 | 480601
Tarrant, (Case No. 03-06-2672P) (FEMA Docket No. P7638) | City of Hurst | July 21, 2004, July 28, 2004, The Star Telegram | The Honorable William Souder, Mayor, City of Hurst, 1505 Precinct Line Road, Hurst, TX 76054 | July 30, 2004 | 480601
Tarrant, (Case No. 03-06-2875P), (FEMA Docket No. P7638) | City of Hurst | August 24, 2004, August 31, 2004 The Star Telegram | The Honorable Richard Ward, Mayor, City of Hurst, 1505 Precinct Line Road, Hurst, TX 76054 | August 27, 2004, | 480601
Tarrant, (Case No. 03-06-1204P), (FEMA Docket No. P7638) | City of Hurst | September 2, 2004, September 9, 2004 The Star Telegram | The Honorable Richard Ward, Mayor, City of Hurst, 1505 Precinct Line Road, Hurst, TX 76054 | December 9, 2004 | 480601
Tarrant, (Case No. 04-06-858P), (FEMA Docket No. P7640) | City of Hurst | October 1, 2004, October 8, 2004 The Star Telegram | The Honorable Richard Ward, Mayor, City of Hurst, 1505 Precinct Line Road, Hurst, TX 76054 | October 7, 2004 | 480601
Hays, (Case No. 03-06-1940P), (FEMA Docket No. P7636) | City of Kyle | April 7, 2004, April 14, 2004, The Kyle Eagle | The Honorable James Adkins, Mayor, City of Kyle, 300 West Center, Kyle, TX 78640 | March 23, 2004 | 481108
Tarrant, (Case No. 04-06-1017P), (FEMA Docket No. P7638) | City of Mansfield | September 2, 2004, September 9, 2004, Mansfield News Mirror | The Honorable Mel Neuman, Mayor, City of Mansfield, 1200 East Broad Street, Mansfield, TX 76063-0337 | August 17, 2004 | 480606
Collin, (Case No. 03-06-2534P), (FEMA Docket No. P7638) | City of McKinney | August 11, 2004, August 18, 2004, McKinney Courier Gazette | The Honorable Bill Whitfield, Mayor, City of McKinney, P.O. Box 517, McKinney, TX 75070 | November 17, 2004 | 480135
Collin, (Case No. 04-06-1002P), (FEMA Docket No. P7640) | City of McKinney | October 7, 2004, October 14, 2004, McKinney Courier Gazette | The Honorable Bill Whitfield, Mayor, City of McKinney, 222 N. Tennessee Avenue, McKinney, TX 75069 | January 13, 2005 | 480135
Dallas, (Case No. 03-06-2692P), (FEMA Docket No. P7636) | City of Mesquite | March 4, 2004, March 11, 2004, The Mesquite News | The Honorable Mike Anderson, Mayor, City of Mesquite, P.O. Box 850137, Mesquite, TX 75185 | June 10, 2004 | 485490
Dallas, (Case No. 03-06-1750P), (FEMA Docket No. P7636) | City of Mesquite | May 13, 2004, May 20, 2004, The Mesquite News | The Honorable Mike Anderson, Mayor, City of Mesquite, P.O. Box 850137, Mesquite, TX 75185 | April 29, 2004 | 485490
Dallas, (Case No. 03-06-2530P), (FEMA Docket No. P7638) | City of Mesquite | July 29, 2004, August 5, 2004, The Mesquite News | The Honorable Mike Anderson, Mayor, City of Mesquite, P.O. Box 850137, Mesquite, TX 75185 | November 4, 2004 | 485490
Fort Bend, (Case No. 03-06-2671P), (FEMA Docket No. P7638) | City of Missouri City | September 2, 2004, September 9, 2004 | The Honorable Allen Owen, Mayor, City of Missouri City, Fort Bend Mirror 1522 Texas Parkway, Missouri City, TX 77489 | December 9, 2004 | 480304
Tarrant, (Case No. 04-06-1192P), (FEMA Docket No. P7638) | City of North Richland Hills | September 16, 2004, September 23, 2004, The Northeast Tarrant County Morning News | The Hon. T. Oscar Trevino, Jr., Mayor, City of North Richland Hills, P.O. Box 820609, North Richland Hills, TX 76182-0609 | August 23, 2004 | 480607
Denton, (Case No. 04-06-1180P), (FEMA Docket No. P7640) | City of Oak Point | November 23, 2004, November 30, 2004, Denton Record Chronicle | The Honorable Duane E. Olson, Mayor, City of Oak Point, 100 Naylor Road, Oak Point, TX 75068 | November 9, 2004 | 481639
Parker, (Case No. 03-06-1950P), (FEMA Docket No. P7636) | Unincorporated Areas | March 3, 2004, March 10, 2004, The Weatherford Democrat | The Honorable Mark Riley, Judge, Parker County, 123 North Main Street, Weatherford, TX 76086 | June 9, 2004 | 480520
Collin, (Case No. 03-06-2548P), (FEMA Docket No. P-7638) | City of Plano | August 4, 2004, August 11, 2004, Plano Star Courier | The Honorable Pat Evans, Mayor, City of Plano, 1520 Avenue K, Plano, TX 750086-0358 | August 17, 2004 | 480140
Collin, (Case No. 04-06-027P), (FEMA Docket No. P7638) | City of Plano | September 3, 2004, September 10, 2004, Plano Star Courier | The Honorable Pat Evans, Mayor, City of Plano, P.O. Box 860358, Plano, TX 75086-0358 | December 10, 2004 | 480140
Tarrant, (Case No. 03-06-848P), (FEMA Docket No. P7638) | City of Richland | August 18, 2004, August 25, 2004, The Northeast Tarrant County Morning News | The Honorable Nelda Stroder, Mayor, City of Richland Hills, 3200 Diana Drive Richland Hills, TX 76118 | July 20, 2004 | 480608
Williamson, (Case No. 03-06-1540P), (FEMA Docket No. P7640) | City of Round Rock | October 12, 2004, October 19, 2004, Round Rock Leader | The Honorable Nyle Maxwell, Mayor, City of Round Rock, 221 East Main, Round Rock, TX 78664 | January 19, 2005 | 481048
Tarrant, (Case No. 04-06-864P), (FEMA Docket No. P7638) | City of Saginaw | July 14, 2004, July 21, 2004, The Star Telegram | The Hon. Frankie Robbins, Mayor, City of Saginaw, P.O. Box 79070, Saginaw, TX 76179 | June 23, 2004 | 480610
Tom Green, (Case No. 03-06-2684P), (FEMA Docket No. P7636) | City of San Angelo | January 16, 2004, January 23, 2004, San Angelo Standard Times | The Honorable J. W. Lown, Mayor, City of San Angelo, San Angelo City Hall, 72 West College Avenue, San Angelo, TX 76903 | December 30, 2003 | 480623
Bexar, (Case No. 03-06-1201P), (FEMA Docket No. P7634) | City of San Antonio | February 19, 2004, February 26, 2004, San Antonio Express | The Honorable Ed Garza, Mayor, City of San Antonio, P.O. Box 839966, News San Antonio, TX 78283-3966 | May 27, 2004 | 480045
Bexar, (Case No. 03-06-1745P), (FEMA Docket No. P7638) | City of San Antonio | June 16, 2004, June 23, 2004, San Antonio Express News | The Honorable Ed Garza, Mayor, City of San Antonio, P.O. Box 839966, San Antonio, TX 78283-3966 | September 22, 2004 | 480045
Bexar, (Case No. 03-06-829P), (FEMA Docket No. P7638) | City of San Antonio | June 30, 2004, July 7, 2004, San Antonio Express News | The Honorable Ed Garza, Mayor, City of San Antonio, P.O. Box 839966, San Antonio, TX 78283-3966 | October 6, 2004 | 480045
Bexar, (Case No. 03-06-1947P), (FEMA Docket No. P7638) | City of San Antonio | August 31, 2004, September 7, 2004, San Antonio Express News | The Honorable Ed Garza, Mayor, City of San Antonio, P.O. Box 839966, San Antonio, TX 78283-3966 | August 12, 2004 | 480045
Tarrant, (Case No. 04-06-866P), (FEMA Docket No. P7638) | City of Southlake | June 23, 2004, June 30, 2004, The Star Telegram | The Hon. Andy Wambsganss, Mayor, City of Southlake, 1400 Main Street Southlake, TX 76092 | June 16, 2004 | 480612
Williamson, (Case No. 03-06-1540P), (FEMA Docket No. P7640) | Unincorporated Areas | October 13, 2004, October 20, 2004, Williamson County Sun | The Honorable John Doerfler, Judge, Williamson County, 710 Main Street, Suite 201, Georgetown, TX 78626 | January 19, 2005 | 481079
Wise, (Case No. 03-06-2058P), (FEMA Docket No. P7638) | Unincorporated Areas | July 15, 2004, July 22, 2004,Wise County Messenger | The Honorable Dick Chase, Judge, Wise County, P.O. Box 393, Decatur, TX 76231-0393 | October 21, 2004 | 481051
Collin, (Case No. 04-06-1470P), (FEMA Docket No. P7640) | City of Wylie | October 20, 2004, October 27, 2004, The Wylie News | The Honorable John Mondy, Mayor, City of Wylie, 2000 State Highway 78 North Wylie, TX 75098 | January 26, 2005 | 480759
Wisconsin: Waupaca, (Case No. 04-05-4068P), (FEMA Docket No. P7640) | City of Clintonville | September 23, 2004, September 30, 2004, Tribune Gazette | The Honorable Richard Beggs, Mayor, City of Clintonville, 50 10th Street, Clintonville, WI 54929 | September 17, 2004 | 550494

(Catalog of Federal Domestic Assistance No. 83.100, “Flood Insurance.”)
Dated: May 31, 2005.
David I. Maurstad,
Acting Director, Mitigation Division, Emergency Preparedness and Response Directorate.

[FR Doc. 05-11229 Filed 6-6-05; 8:45 am]

BILLING CODE 9110-12-P